DEPARTMENT OF THE INTERIOR

Bureau of Ocean Energy Management

[OMB Control Number 1010-0006; Docket ID: BOEM-2017-0016]

Agency Information Collection Activities; Submission to the Office of Management and Budget for Review and Approval; 30 CFR parts 550, 556, and 560, Leasing of Sulfur or Oil and Gas in the Outer Continental Shelf

AGENCY: Bureau of Ocean Energy Management, Interior.

ACTION: Notice of Information Collection; request for comment.

SUMMARY: In accordance with the Paperwork Reduction Act of 1995, the Bureau of Ocean Energy Management (BOEM) is proposing to renew an information collection with revisions.

DATES: Interested persons are invited to submit comments on or before July 26, 2019.

ADDRESSES: Send written comments on this information collection request (ICR) to the Office of Management and Budget's Desk Officer for the Department of the Interior by email at OIRA_Submission@omb.eop.gov; or via facsimile to 202-395-5806. Please provide a copy of your comments to the BOEM Information Collection Clearance Officer, Anna Atkinson, Bureau of Ocean Energy Management, 45600 Woodland Road, Sterling, Virginia, 20166; or by email to anna.atkinson@boem.gov. Please reference Office of Management and Budget (OMB) Control Number 1010-0006 in the subject line of your comments.

FOR FURTHER INFORMATION CONTACT: To request additional information about this ICR, contact Anna Atkinson by email, or by telephone at 703-787-1025. You may also view the ICR at http://www.reginfo.gov/public/do/PRAMain.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on April 1, 2019 (84 FR 12277). No comments were received.

We are again soliciting comments on the proposed ICR that is described below. We are especially interested in public comment addressing the following issues: (1) Is the collection necessary to the proper functions of BOEM; (2) will this information be processed and used in a timely manner; (3) is the estimate of burden accurate; (4) how might BOEM enhance the quality, utility, and clarity of the information to be collected; and (5) how might BOEM minimize the burden of this collection on the respondents, including minimizing the burden through the use of information technology?

Comments that you submit in response to this notice are a matter of public record. We will include or summarize each comment in our request to the Office of Management and Budget (OMB) for approval of this ICR. You should be aware that your entire comment—including your address, phone number, email address, or other personal identifying information—may be made publicly available at any time. In order for BOEM to withhold from disclosure your personally identifiable information, you must identify any information contained in the submittal of your comments that, if released, would clearly constitute an unwarranted invasion of your personal privacy. You must also briefly describe any possible harmful consequences of the disclosure of your information, such as embarrassment, injury, or other harm. While you can ask us in your comment to withhold your personally identifiable information from public review, we cannot guarantee that we will be able to do so.

BOEM protects proprietary information in accordance with the Freedom of Information Act (5 U.S.C. 552) and the Department of the Interior's implementing regulations (43 CFR part 2), and under regulations at 30 CFR 580.70 and applicable sections of 30 CFR parts 550 and 552 promulgated pursuant to Outer Continental Shelf Lands Act (OCSLA) at 43 U.S.C. 1352(c).

Abstract: This information collection request concerns the paperwork requirements in the regulations under 30 CFR part 550, part 556, and part 560, Leasing of Sulfur or Oil and Gas in the Outer Continental Shelf.

The Outer Continental Shelf (OCS) Lands Act, as amended (43 U.S.C. 1331 et seq., and 43 U.S.C. 1801 et seq.), authorizes the Secretary of the Interior to prescribe rules and regulations to administer leasing of the OCS. Such rules and regulations will apply to all operations conducted under a lease. Operations on the OCS must preserve, protect, and develop oil and natural gas resources in a manner that is consistent with the need to make such resources available to meet the Nation's energy needs; balance orderly energy resource development with protection of human, marine, and coastal environments; ensure the public a fair and equitable return on the resources of the OCS; and preserve and maintain free enterprise competition. Also, the Energy Policy and Conservation Act of 1975 (EPCA) prohibits certain lease bidding arrangements (42 U.S.C. 6213(c)).

The Independent Offices Appropriations Act (31 U.S.C. 9701), the Omnibus Appropriations Act (Pub. L. 104-133, 110 Stat. 1321, April 26, 1996), and Office of Management and Budget (OMB) Circular A-25, authorize Federal agencies to recover the full cost of services that provide special benefits. Under the Department of the Interior's (DOI) implementing policy, BOEM is required to charge the full cost for services that provide special benefits or privileges to an identifiable non-Federal recipient above and beyond those that accrue to the public at large. Approvals of the transfer of a lease or interest therein are subject to cost recovery, and BOEM regulations specify the filing fee for these transfer applications.

This notice concerns the reporting and recordkeeping requirements of BOEM regulations at 30 CFR part 550, subpart J, Pipelines and Pipeline Rights-of-Way; 30 CFR part 556, Leasing of Sulphur or Oil and Gas in the OCS; 30 CFR part 560, OCS Oil and Gas Leasing; as well as the related Notices to Lessees and Operators (NTLs) that clarify and provide additional guidance on some aspects of these regulations. This ICR also concerns the use of forms to process bonds, transfer interest in leases, and file relinquishments.

Title of Collection: Leasing of Sulfur or Oil and Gas in the Outer Continental Shelf (30 CFR part 550, part 556, and part 560).

OMB Control Number: 1010-0006.

Form Number:

• BOEM-0150, Assignment of Record Title Interest in Federal OCS Oil and Gas Lease,

• BOEM-0151, Assignment of Operating Rights Interest in Federal OCS Oil and Gas Lease,

• BOEM-0152, Relinquishment of Federal OCS Oil and Gas Lease,

• BOEM-2028, Outer Continental Shelf (OCS) Mineral Lessee's or Operator's Bond,

• BOEM-2028A, Outer Continental Shelf (OCS) Mineral Lessee's or Operator's Supplemental Bond, and

• BOEM-2030, Outer Continental Shelf (OCS) Pipeline Right-of-Way Grant Bond.

Type of Review: Revision of a currently approved collection.

Respondents/Affected Public: Federal oil, gas, or sulphur lessees and/or operators.

Total Estimated Number of Annual Responses: 10,307 responses.

Total Estimated Number of Annual Burden Hours: 19,054 hours.

Respondent's Obligation: Mandatory or Required to Obtain or Retain a Benefit.

Frequency of Collection: On occasion or annual.

Total Estimated Annual Non-hour Burden Cost: $766,053.

Estimated Reporting and Recordkeeping Hour Burden: We expect the burden estimate for the renewal will be 19,054 hours, which reflects a decrease of 400 burden hours. A reduction of 80 hours is related to respondents' submission of designation of operator form (Form BOEM-1123); this burden is now captured in OMB control number 1010-0114. And the remaining reduction of 320 hours is for activities within 30 CFR part 556, subpart B, that are not considered information collection activities under 5 CFR 1320.3(h)(4), but were previously counted as information collection activities.

In calculating the cost for the hour burdens, we assumed that respondents perform certain requirements in the normal course of their activities. We consider some information collection activities to be usual and customary, and we take that into account in estimating the burden.

An agency may not conduct or sponsor, and a person is not required to respond to, a collection of information unless it displays a currently valid OMB control number.

Authority: The authority for this action is the Paperwork Reduction Act of 1995 (44 U.S.C. 3501 et seq.).

Deanna Meyer-Pietruszka,
Chief, Office of Policy, Regulations, and Analysis.

[FR Doc. 2019-13575 Filed 6-25-19; 8:45 am]

BILLING CODE 4310-MR-P